FEDERAL COMMUNICATIONS COMMISSION

[Report No. 2815]

Petitions for Reconsideration of Action in Rulemaking Proceeding

May 24, 2007.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by June 21, 2007. See Section 1.4(b)(1) of the Commission's rules (47 CFR 1.4(b)(1)). Replies to an opposition must be filed within 10 days after the time for filing oppositions have expired.

Subject: In the Matter of Section 68.4(a) of the Commission's Rules Governing Hearing Aid-Compatible Telephones (WT Docket No. 01-309).

Petitions for Waiver of Section 20.19 of the Commission's Rules.

Number of Petitions Filed: 6.

Subject: In the Matter of Section 73.202(b), Table of Allotments, FM Broadcast Stations (Coal Run, Kentucky and Clinchco, Virginia) (MB Docket No. 04-319).

Number of Petitions Filed: 1.

Subject: In the Matter of Universal Service Contribution Methodology (WC Docket No. 06-122).

Federal-State Joint Board on Universal Service (CC Docket No. 96-45).

Number of Petitions Filed: 1.

Marlene H. Dortch,
Secretary.

[FR Doc. E7-10720 Filed 6-5-07; 8:45 am]

BILLING CODE 6712-01-P